DEPARTMENT OF JUSTICE

Antitrust Division

Notice Pursuant to the National Cooperative Research and Production Act of 1993—International Staple, Nail, and Tool Association

Notice is hereby given that, on September 8, 2004, pursuant to section 6(a) of the National Cooperative Research and Production Act of 1993, 15 U.S.C. 4301 et seq. (“the Act”), the International Staple, Nail, and Tool Association (“ISANTA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: International Staple, Nail, and Tool Association, La Grange, IL. The nature and scope of ISANTA's standards development activities are: To develop, plan, establish and coordinate voluntary consensus standards applicable to safety requirements for portable hand-held compressed air powered tools which drive fasteners such as nails and staples on a national level (American National Standards). Through its standards development activities, ISANTA seeks to establish safety requirements for the design, construction, use and maintenance of portable hand-held compressed air-powered tools to guard against the injury of tool users and bystanders in the workplace. ISANTA also provides guidelines to manufacturers, owners, employers (including self-employed contractors), supervisors, purchasers, operators and other persons concerned with or responsible for safety in the workplace and assists in the promulgation of appropriate safety directives and safety training programs.

Dorothy B. Fountain,
Deputy Director of Operations, Antitrust Division.

[FR Doc. 04-25071 Filed 11-9-04; 8:45 am]

BILLING CODE 4410-11-M